DEPARTMENT OF STATE

[Public Notice: 10046]

In the Matter of the Amendment of the Designation of al-Qa'ida in the Arabian Peninsula (and Other Aliases) as a Foreign Terrorist Organization Pursuant to Section 219 of the Immigration and Nationality Act

Based upon a review of the administrative record assembled in this matter pursuant to Section 219 of the Immigration and Nationality Act, as amended (8 U.S.C. 1189 (“INA”), and in consultation with the Attorney General and the Secretary of the Treasury, I have concluded that there is a sufficient factual basis to find that al-Qa'ida in the Arabian Peninsula uses the additional aliases Sons of Abyan, Sons of Hadramawt, Sons of Hadramawt Committee, Civil Council of Hadramawt, and National Hadramawt Council.

Therefore, pursuant to Section 219(b) of the INA, as amended (8 U.S.C. 1189(b), I hereby amend the designation of al-Qa'ida in the Arabian Peninsula as a Foreign Terrorist Organization to include Sons of Abyan, Sons of Hadramawt, Sons of Hadramawt Committee, Civil Council of Hadramawt, and National Hadramawt Council as aliases.

This determination shall be published in the Federal Register.

Dated: May 15, 2017.
Rex Tillerson,
Secretary of State.

[FR Doc. 2017-13322 Filed 6-22-17; 8:45 am]

BILLING CODE 4710-10-P